DEPARTMENT OF DEFENSE

Office of the Secretary

[Docket ID: DOD-2010-OS-0075]

Privacy Act of 1974; System of Records

AGENCY: Department of Defense (DoD).

ACTION: Notice to amend a system of records.

SUMMARY: The Office of the Secretary of Defense is proposing to amend a system of records notice in its existing inventory of records systems subject to the Privacy Act of 1974, (5 U.S.C. 552a), as amended.

DATES: The changes will be effective on July 8, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense systems of records notices subject to the Privacy Act of 1974, (5 U.S.C. 552a), as amended, have been published in the Federal Register and are available from the Chief, OSD/JS Privacy Office, Freedom of Information Directorate, Washington Headquarters Services, 1155 Defense Pentagon, Washington, DC 20301-1155.

The specific changes to the records system being amended is set forth below followed by the notice, as amended, published in its entirety. The proposed amendment is not within the purview of subsection (r) of the Privacy Act of 1974, (5 U.S.C. 552a), as amended, which requires the submission of a new or altered system report.

Dated: June 3, 2010.
Mitchell S. Bryman,
Alternate OSD Federal Register Liaison Officer, Department of Defense.

WUSU 07

System name:

USUHS Grievance Records (August 9, 1993; 58 FR 42304).

Changes:

* * * * *

System location:

Delete entry and replace with “Uniformed Services University of the Health Sciences, Civilian Human Resources Directorate (CHR), 4301 Jones Bridge Road, Bethesda, MD 20814-4712.”

* * * * *

Authority for maintenance of the system:

Delete entry and replace with “5 U.S.C. 7121, Grievance Procedures; DoD 1400.25-M, Subchapter 771, Administrative Grievance System; and E.O. 9397 (SSN) as amended.”

Purpose(s):

Delete entry and replace with “To track, analyze and mitigate informal grievances filed by Uniformed Services University on employees covered by a collective bargaining agreement. Utilizing this information allows Uniformed Services University civilian personnel employer relations officers to track grievances, to analyze findings from an investigation, and to research the success and/or failure of mitigation efforts. The information is collected and used by Civilian Personnel Employee Relations Officers.”

* * * * *

Retention and disposal:

Delete entry and replace with “Pending. Until approved by the National Archives & Records Administration (NARA). All data must be retained indefinitely until scheduled with NARA.”

System manager(s) and address:

Delete entry and replace with “Director, Civilian Human Resources Directorate, Uniformed Services University of the Health Sciences, 4301 Jones Bridge Road, Bethesda, MD 20814-4712.”

Notification procedure:

Delete entry and replace with “Individuals seeking to determine whether information about themselves is contained in this system should address written inquiries to the Director, Civilian Human Resources Directorate, Uniformed Services University of the Health Sciences, 4301 Jones Bridge Road, Bethesda, MD 20814-4712.

The request should contain the full name, address and the signature of the subject individual.”

Record access procedures:

Delete entry and replace with “Individuals seeking access to information about themselves contained in this system should address written inquiries to the TRICARE Management Activity, Freedom of Information Act Requester Service, 16401 Centretech Parkway, Aurora, CO 80011-9066.

The request should contain the full name, address and the signature of the subject individual.”

* * * * *

WUSU 07

System name:

USUHS Grievance Records.

System location:

Uniformed Services University of the Health Sciences, Civilian Human Resources Directorate (CHR), 4301 Jones Bridge Road, Bethesda, MD 20814-4712.

Categories of individuals covered by the system:

Current and former civilian Federal employees that have submitted grievances.

Categories of records in the system:

Individual name, address, date of birth, all documents related to the alleged grievance, including statements of witnesses, reports of interviews and hearings, examiners findings and recommendations, a copy of the original and final decisions, and related correspondence and exhibits.

Authority for maintenance of the system:

5 U.S.C. 7121, Grievance Procedures; DoD 1400.25-M, Subchapter 771, Administrative Grievance System; and E.O. 9397 (SSN) as amended.

Purpose(s):

To track, analyze and mitigate informal grievances filed by Uniformed Services University on employees covered by a collective bargaining agreement. Utilizing this information allows Uniformed Services University civilian personnel employer relations officers to track grievances, to analyze findings from an investigation, and to research the success and/or failure of mitigation efforts. The information is collected and used by Civilian Personnel Employee Relations Officers.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3).

The DoD “Blanket Routine Uses” set forth at the beginning of the Office of the Secretary of Defense/Joint Staff compilation of the systems of record notices apply to this system.

Storage:

Paper file folders.

Retrievability:

Individual's last name.

Safeguards:

Records are maintained in locked file cabinets, with access restricted to authorized Uniformed Services University of the Health Sciences employees who have a demonstrated need-to-know.

Retention and disposal:

Pending. Until approved by the National Archives & Records Administration (NARA). All data must be retained indefinitely until scheduled with NARA.

System manager(s) and address:

Director, Civilian Human Resources Directorate, Uniformed Services University of the Health Sciences, 4301 Jones Bridge Road, Bethesda, MD 20814-4712.

Notification procedure:

Individuals seeking to determine whether information about themselves is contained in this system should address written inquiries to the Director, Civilian Human Resources Directorate, Uniformed Services University of the Health Sciences, 4301 Jones Bridge Road, Bethesda, MD 20814-4712.

The request should contain the full name, address and the signature of the subject individual.

Record access procedures:

Individuals seeking access to information about themselves contained in this system should address written inquiries to the TRICARE Management Activity, Freedom of Information Act Requester Service, 16401 Centretech Parkway, Aurora, CO 80011-9066.

The request should contain the full name, address and the signature of the subject individual.

Contesting record procedures:

The Office of the Secretary of Defense rules for accessing records, for contesting contents and appealing initial agency determinations are published in OSD Administrative Instruction 81; 32 CFR part 311; or may be obtained from the system manager.

Record source categories:

Information in this system of records is obtained from the individual on whom the record is maintained; testimony of witnesses; agency officials; and related correspondence from organizations or persons.

Exemptions claimed for the system:

None.

[FR Doc. 2010-13657 Filed 6-7-10; 8:45 am]

BILLING CODE 5001-06-P